DEPARTMENT OF HEALTH AND HUMAN SERVICES

National Institutes of Health

National Institute of General Medical Sciences; Amended Notice of Meeting

Notice is hereby given of a change in the meeting of the National Institute of General Medical Sciences Special Emphasis Panel, March 24, 2003, 8 a.m. to March 24, 2003, 5 p.m., which was published in the Federal Register on March 6, 2003, 68 FR 10739-10740.

This meeting will be held on March 31, 2003, at the National Institutes of Health, Natcher Building, 3AN12B, from 1 p.m. to 5 p.m. as a teleconference. The meeting is closed to the public.

Dated: March 11, 2003.
LaVerne Y. Stringfield,
Director, Office of Federal Advisory Committee Policy.

[FR Doc. 03-7135 Filed 3-25-03; 8:45 am]

BILLING CODE 4140-01-M